DEPARTMENT OF TRANSPORTATION

Federal Aviation Administration

Notice of Intent to Rule on Application (01-03-I-00-TEX) to Impose a Passenger Facility Charge (PFC) at Telluride Regional Airport, Submitted by the County of San Miguel, Colorado and the Telluride Regional Airport Authority

AGENCY: Federal Aviation Administration (FAA), DOT.

ACTION: Notice of Intent to Rule on Application.

SUMMARY: The FAA proposes to rule and invites public comment on the application to impose a PFC at the Telluride Regional Airport under the provisions of 49 U.S.C. 40117 and part 158 of the Federal Aviation Regulations (14 CFR 158).

DATES: Comments must be received on or before October 22, 2001.

ADDRESSES: Comments on this application may be mailed or delivered in triplicate to the FAA at the following address: Alan E. Wiechmann, Manager; Denver Airports District Office, DEN-ADO; Federal Aviation Administration; 26805 E. 68th Avenue, Suite 224; Denver, CO 80249-6361.

In addition, one copy of any comments submitted to the FAA must be mailed or delivered to Mr. Richard W. Nuttall, Airport Manager, at the following address: Telluride Regional Airport, P.O. Box 1807, Telluride, Colorado 81435.

Air Carriers and foreign air carriers may submit copies of written comments previously provided to the Telluride Regional Airport, under section 158.23 of part 158.

FOR FURTHER INFORMATION CONTACT: Mr. Chris Schaffer, (303) 342-1258; Denver Airports District Office, DEN-ADO; Federal Aviation Administration; 26805 68th Avenue, Suite 224; Denver, CO 80249-6361. The application may be reviewed in person at this same location.

SUPPLEMENTARY INFORMATION: The FAA proposes to rule and invites public comment on the application (01-03-I-00-TEX) to impose a PFC at Telluride Regional Airport, under the provisions of 49 U.S.C. 40117 and part 158 of the Federal Aviation Regulations (14 CFR part 158).

On September 7, 2001, the FAA determined that the application to impose a PFC submitted by San Miguel County, Colorado, was substantially complete within the requirements of section 158.25 of part 158. The FAA will approve or disapprove the application, in whole or in part, no later than December 5, 2001.

The following is a brief overview of the application.

Level of the proposed PFC: $4.50.

Proposed charge effective date: April 1, 2002.

Proposed charge expiration date: December 31, 2007.

Total requested for impose only approval: $430,000.

Brief description of proposed projects: Acquire land, engineering design services for future runway and runway safety area upgrades.

Class or classes of air carriers that the public agency has requested not be required to collect PFC's: Non-scheduled/On Demand air carriers filing FAA Form 1800-31.

Any person may inspect the application in person at the FAA office listed above under FOR FURTHER INFORMATION CONTACT and at the FAA Regional Airports Office located at: Federal Aviation Administration, Northwest Mountain Region, Airports Division, ANM-600, 1601 Lind Avenue S.W., Suite 315, Renton, WA 98055-4056.

In addition, any person may, upon request, inspect the application, notice and other documents germane to the application in person at the Telluride Regional Airport.

Issued in Renton, Washington on September 7, 2001.
David A. Field,
Manager, Planning, Programming and Capacity Branch, Northwest Mountain Region.

[FR Doc. 01-23568 Filed 9-20-01; 8:45 am]

BILLING CODE 4910-13-M